DEPARTMENT OF AGRICULTURE

Animal and Plant Health Inspection Service

[Docket No. APHIS-2013-0106]

General Conference Committee of the National Poultry Improvement Plan; Solicitation for Membership

AGENCY: Animal and Plant Health Inspection Service, USDA.

ACTION: Notice of solicitation for membership.

SUMMARY: We are giving notice that the Secretary of Agriculture is soliciting nominations for the election of regional membership, a member-at-large, and alternates to the General Conference Committee of the National Poultry Improvement Plan.

DATES: Consideration will be given to nominations received on or before May 9, 2014.

ADDRESSES: Completed nomination forms should be mailed, faxed, or emailed to the person listed under FOR FURTHER INFORMATION CONTACT.

FOR FURTHER INFORMATION CONTACT: Dr. Denise L. Brinson, Senior Coordinator, National Poultry Improvement Plan, VS, APHIS, 1506 Klondike Road, Suite 101, Conyers, GA 30094-5173; phone (770) 922-3496; fax (770) 922-3498; email denise.l.brinson@aphis.usda.gov.

SUPPLEMENTARY INFORMATION: The General Conference Committee (the Committee) of the National Poultry Improvement Plan (NPIP) is the Secretary's Advisory Committee on poultry health. The Committee serves as a forum for the study of problems relating to poultry health and as necessary makes specific recommendations to the Secretary concerning ways the U.S. Department of Agriculture may assist the industry in addressing these problems. The Committee assists the Department in planning, organizing, and conducting the Biennial Conference of the NPIP. The Committee recommends whether new proposals should be considered by the delegates to the Biennial Conference.

The Committee consists of an elected member-at-large who is a NPIP participant and an elected member (and alternate) from each of six regions. Terms will expire for three of the current regional members of the Committee as well as the member-at-large in July 2014. We are soliciting nominations from interested organizations and individuals to replace the member-at-large and members on the Committee from the North Atlantic region (Connecticut, Maine, Massachusetts, New Hampshire, New Jersey, New York, Pennsylvania, Rhode Island, and Vermont), the East North Central region (Illinois, Indiana, Michigan, Ohio, and Wisconsin), and the Western region (Alaska, Arizona, California, Colorado, Idaho, Montana, Nevada, New Mexico, Oregon, Utah, Washington, and Wyoming).

Selection of members and their alternates is determined by a majority vote of the NPIP delegates from the respective region. The voting will be by secret ballot of official delegates from the respective region, and the results will be recorded. The member-at-large will be elected by all official delegates. There must be at least two nominees for each position. To ensure the recommendations of the Committee have taken into account the needs of the diverse groups served by the Department, at least one nominee from each of the three regions must have a demonstrated ability to represent underrepresented groups (minorities, women, persons with disabilities, and persons with limited English proficiency). All members serve for 4 years, subject to the continuation of the Committee by the Secretary of Agriculture.

Nominees wishing to be considered for election must complete Form AD-755. Nomination forms are available on the Internet at http://www.ocio.usda.gov/forms/doc/AD-755.pdf or may be obtained from the person listed under FOR FURTHER INFORMATION CONTACT.

Done in Washington, DC, this 18th day of February 2014.
Kevin Shea,
Administrator, Animal and Plant Health Inspection Service.

[FR Doc. 2014-03843 Filed 2-21-14; 8:45 am]

BILLING CODE 3410-34-P